DEPARTMENT OF COMMERCE

International Trade Administration

Notice of Scope Rulings

AGENCY: Enforcement and Compliance, International Trade Administration, Department of Commerce.

DATES: Applicable December 20, 2024.

SUMMARY: The U.S. Department of Commerce (Commerce) hereby publishes a list of scope rulings and circumvention determinations made during the period July 1, 2024, through September 30, 2024. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: (202) 482-1560.

SUPPLEMENTARY INFORMATION:

Background

Commerce regulations provide that it will publish in the Federal Register a list of scope rulings on a quarterly basis.¹ Our most recent notification of scope rulings was published on November 15, 2024.² This current notice covers all scope rulings made by Enforcement and Compliance between July 1, 2024, and September 30, 2024.

¹ See 19 CFR 351.225(o).

² See Notice of Scope Rulings, 89 FR 90266 (November 15, 2024).

Final Scope Rulings Made July 1, 2024, Through September 30, 2024

Mexico

A-201-857: Certain Freight Rail Couplers and Parts Thereof From Mexico

Requestor: Amsted Rail Company, Inc. and its affiliated company ASF-K de Mexico, S. de R.L. de C.V. Certain steel freight rail couplers (i.e., E type yokes and F type yokes) as defined in the AAR specification of M-211 “Foundry and Product Approval Requirements for the Manufacture of Couplers, Coupler Yokes, Knuckles, Follower Blocks, and Coupler Parts” are not covered by the antidumping duty (AD) order on certain freight rail couplers from Mexico because of the plain language of the scope of the order. July 2, 2024.

People's Republic of China (China)

A-570-979 and C-570-980: Crystalline Silicon Photovoltaic Cells, Whether or Not Assembled into Modules, From China

Requestor: GameChange Solar Corp. The off-grid solar charging module with part numbers GC4291F, GC4291FE, GC3291F, or GC3291FE is covered by the scope of the AD and countervailing duty (CVD) orders on crystalline silicon photovoltaic cells, whether or not assembled into modules, from China because the solar cells in the charging module do not differ physically from the crystalline silicon photovoltaic cells covered by the scope of the orders and the charging module does not meet any of the exclusions in the scope of the orders. August 13, 2024.

A-570-090 and C-570-091: Certain Steel Wheels 12 to 16.5 Inches in Diameter From China

Requestor: Allied Wheel Components, Inc. (Allied Wheel). Certain models of passenger vehicle and light truck discs and rims imported by Allied Wheel are outside the scope of the AD and CVD orders on certain steel wheels 12 to 16.5 inches in diameter from China because the requested products are distinguishable from in-scope trailer wheels on the basis of hub bore size, offset, load rating, and/or bolt pattern that make them unsuitable for use on trailer or towable equipment. August 21, 2024.

Taiwan

A-583-869: Passenger Vehicle and Light Truck Tires From Taiwan

Requestor: Cheng Shin Rubber Ind. Co. Ltd. (Chen Shin Rubber) Certain light-truck spare tires models, identified under part code TP10657100, produced by Cheng Shin Rubber and imported by its U.S. affiliate, Cheng Shin Rubber USA Inc., are not covered by the scope of the AD order on passenger vehicle and light truck tires from Taiwan because the product's technical specs and prefix designations meet the exclusionary language of the order as they are not at this time included within the TRA Yearbook. However, we acknowledge that a future version of the TRA Yearbook could bring previously excluded tires into the scope. August 5, 2024.

Notification to Interested Parties

Interested parties are invited to comment on the completeness of this list of completed scope inquiries and scope/circumvention inquiry combinations made during the period July 1, 2024, through September 30, 2024. Any comments should be submitted to the Deputy Assistant Secretary for AD/CVD Operations, Enforcement and Compliance, International Trade Administration, via email to CommerceCLU@trade.gov.

This notice is published in accordance with 19 CFR 351.225(o).

Dated: December 13, 2024.
Scot Fullerton,
Acting Deputy Assistant Secretary for Antidumping and Countervailing Duty Operations.

[FR Doc. 2024-30477 Filed 12-19-24; 8:45 am]

BILLING CODE 3510-DS-P